DEPARTMENT OF TRANSPORTATION

Surface Transportation Board

[STB Finance Docket No. 34839]

Norfolk Southern Corporation and Norfolk Southern Railway Company—Control and Consolidation Exemption—Algers, Winslow and Western Railway Company

AGENCY: Surface Transportation Board, DOT.

ACTION: Notice of exemption.

SUMMARY: The Board grants an exemption, under 49 U.S.C. 10502, from the prior approval requirements of 49 U.S.C. 11323, et seq., for Norfolk Southern Corporation and Norfolk Southern Railway Company (collectively, NS), to acquire control of Algers, Winslow and Western Railway Company (AWW) and to consolidate AWW into NS following the acquisition. The exemption is granted subject to the employee protective conditions in New York Dock Ry.—Control—Brooklyn Eastern Dist., 360 I.C.C. 60 (1979), and the condition that NS adhere to its pledge to preserve the Oakland City, IN interchange and honor existing contracts involving AWW.

DATES: This exemption will be effective on March 23, 2007. Petitions to stay must be filed by March 5, 2007. Petitions to reopen must be filed by March 13, 2007.

ADDRESSES: Send an original and 10 copies of all pleadings, referring to STB Finance Docket No. 34839, to: Surface Transportation Board, 1925 K Street, NW., Washington, DC 20423-0001. In addition, send one copy of pleadings to Richard A. Allen, Zuckert, Scoutt & Rasenberger, LLP, 888 Seventeenth Street, NW., Suite 700, Washington, DC 20006.

FOR FURTHER INFORMATION CONTACT: Joseph H. Dettmar, (202) 565-1609 [Assistance for the hearing impaired is available through the Federal Information Relay Service (FIRS) at 1-800-877-8339].

SUPPLEMENTARY INFORMATION: Additional information is contained in the Board's decision. A copy of the decision is available on the Board's Web site at http://www.stb.dot.gov. To purchase a copy of the full decision, write to, e-mail or call: ASAP Document Solutions, 9332 Annapolis Rd., Suite 103, Lanham, MD 20706; e-mail asapdc@verizon.net; telephone (202) 306-4004. [Assistance for the hearing impaired is available through FIRS at 1-800-877-8339].

Board decisions and notices are available on our Web site at http://www.stb.dot.gov.

Decided: February 13, 2007.
By the Board, Chairman Nottingham, Vice Chairman Buttrey, and Commissioner Mulvey.
Vernon A. Williams,
Secretary.

[FR Doc. E7-2887 Filed 2-20-07; 8:45 am]

BILLING CODE 4915-01-P